INTERNATIONAL TRADE COMMISSION

[Investigations Nos. 731-TA-736 and 737 (Review)]

Large Newspaper Printing Presses From Germany and Japan

AGENCY: International Trade Commission.

ACTION: Termination of five-year reviews.

SUMMARY: The subject five-year reviews were initiated in August 2001 to determine whether revocation of the antidumping duty orders on large newspaper printing presses and components thereof, whether assembled or unassembled, from Germany and Japan would be likely to lead to continuation or recurrence of dumping and of material injury to a domestic industry. On February 25, 2002, the Department of Commerce published notice that it was revoking the orders effective September 4, 2001 because “the only domestic interested party withdrew its interest in both proceedings” (67 FR 8523). Accordingly, pursuant to section 751(c) of the Tariff Act of 1930 (19 U.S.C. 1675(c)), the subject reviews are terminated.

EFFECTIVE DATE: February 25, 2002.

FOR FURTHER INFORMATION CONTACT: Lynn Featherstone (202-205-3160), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server, http://www.usitc.gov. The public record for this investigation may be viewed on the Commission's electronic docket (EDIS-ON-LINE) at http://dockets.usitc.gov/eol/public.

Authority: These reviews are being terminated under authority of title VII of the Tariff Act of 1930; this notice is published pursuant to section 207.69 of the Commission's rules (19 CFR 207.69).

By Order of the Commission.
Issued: February 26, 2002.
Marilyn R. Abbott,
Acting Secretary.

[FR Doc. 02-5072 Filed 3-1-02; 8:45 am]

BILLING CODE 7020-02-P